SECURITIES AND EXCHANGE COMMISSION

[Release No. 34-76019; File No. SR-BATS-2015-56]

Self-Regulatory Organizations; BATS Exchange, Inc.; Notice of Designation of a Longer Period for Commission Action on Proposed Rule Change, as Modified by Amendments Nos. 1 and 2, To List and Trade Shares of the ProShares Managed Futures Strategy ETF of the ProShares Trust Under BATS Rule 14.11 on BATS Exchange, Inc.

September 29, 2015.

On July 30, 2015, BATS Exchange, Inc. (“BATS” or “Exchange”) filed with the Securities and Exchange Commission (“Commission”), pursuant to Section 19(b)(1) of the Securities Exchange Act of 1934 (“Act”) ¹ and Rule 19b-4 thereunder,² a proposed rule change to list and trade shares of the ProShares Managed Futures Strategy ETF (“Fund”) of the ProShares Trust under BATS Rule 14.11(i). The proposed rule change was published for comment in the Federal Register on August 17, 2015.³ On August 19, 2015, the Exchange filed Amendment No. 1 to the proposed rule change.⁴ On September 4, 2015, the Exchange filed Amendment No. 2 to the proposed rule change.⁵ The Commission has received no comment letters on the proposed rule change.

¹ 15 U.S.C. 78s(b)(1).

² 17 CFR 240.19b-4.

³ See Securities Exchange Act Release No. 75664 (August 11, 2015), 80 FR 49288 (“Notice”).

⁴ Amendment No. 1 is available at: http://www.sec.gov/comments/sr-bats-2015-56/bats201556-.pdf.

⁵ Amendment No. 2 is available at: http://www.sec.gov/comments/sr-bats-2015-56/bats201556-2.pdf.

Section 19(b)(2) of the Act ⁶ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The Commission is extending this 45-day time period. The Commission finds that it is appropriate to designate a longer period within which to take action on the proposed rule change so that it has sufficient time to consider the proposed rule change, as modified by the amendments.

⁶ 15 U.S.C. 78s(b)(2).

Accordingly, the Commission, pursuant to Section 19(b)(2) of the Act,⁷ designates November 15, 2015, as the date by which the Commission shall either approve or disapprove or institute proceedings to determine whether to disapprove the proposed rule change (File Number SR-BATS-2015-56).

⁷ Id.

For the Commission, by the Division of Trading and Markets, pursuant to delegated authority.⁸
⁸ 17 CFR 200.30-3(a)(31).
Robert W. Errett,
Deputy Secretary.

[FR Doc. 2015-25181 Filed 10-2-15; 8:45 am]

BILLING CODE 8011-01-P